DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Enforcement, Compliance & Analysis, tel.: 202-622-2490.

SUPPLEMENTARY INFORMATION:

Electronic Availability

The SDN List and additional information concerning OFAC sanctions programs are available on OFAC's website (https://www.treasury.gov/ofac).

Notice of OFAC Action(s)

On July 31, 2023, OFAC determined that the property and interests in property subject to U.S. jurisdiction of the following persons are blocked under the relevant sanctions authority listed below.

Individuals

1. AGLEEL, Ahmed (a.k.a. AQLYL, Ahmad), Addu City, Maldives; DOB 30 Jan 1980; POB Gurahaage, Feydhoo, Maldives; nationality Maldives; Gender Male; Secondary sanctions risk: section 1(b) of Executive Order 13224, as amended by Executive Order 13886; National ID No. A298637 (Maldives) (individual) [SDGT] (Linked To: AL QA'IDA).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, AL-QA'IDA, a person whose property and interests in property are blocked pursuant to E.O. 13224.

2. SHIYAM, Ali (a.k.a. “VB AYYA”), Maldives; DOB 25 Oct 1987; POB Male, Maldives; nationality Maldives; Gender Male; Secondary sanctions risk: section 1(b) of Executive Order 13224, as amended by Executive Order 13886; Passport F0303172 (Maldives) expires 08 Feb 2020; National ID No. A039352 (Maldives) (individual) [SDGT] (Linked To: AL QA'IDA).

Designated pursuant to section 1(a)(iii)(C) of E.O. 13224, as amended, for having materially assisted, sponsored, or provided financial, material, or technological support for, or goods or services to or in support of, AL-QA'IDA, a person whose property and interests in property are blocked pursuant to E.O. 13224.

3. INAS, Moosa (a.k.a. ENAS, Moosa), Kalhaidhoo, Maldives; Male, Maldives; DOB 11 Dec 1985; POB Kalhaidhoo, Maldives; nationality Maldives; Gender Male; Secondary sanctions risk: section 1(b) of Executive Order 13224, as amended by Executive Order 13886; National ID No. A134920 (Maldives); Identification Number A096123 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

4. MANIK, Abdulla Ali, Maldives; DOB 15 Apr 1972; alt. DOB 15 Mar 1972; POB Haa Alif Molhadhoo, Maldives; nationality Maldives; Gender Male; Secondary sanctions risk: section 1(b) of Executive Order 13224, as amended by Executive Order 13886; National ID No. A114374 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

5. MUBEEN, Ahmed, Male, Maldives; DOB 30 Dec 1976; POB Male, Maldives; nationality Maldives; Gender Male; Secondary sanctions risk: section 1(b) of Executive Order 13224, as amended by Executive Order 13886; Passport E0451333 (Maldives) expires 29 Apr 2018; National ID No. A048375 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

6. SHAMIL, Hussain (a.k.a. SHAAMIL, Hussain), Male, Maldives; DOB 11 May 1984; POB Guraidhoo, Kaafu Atoll, Maldives; nationality Maldives; Gender Male; Secondary sanctions risk: section 1(b) of Executive Order 13224, as amended by Executive Order 13886; Passport E0491049 (Maldives); National ID No. A096689 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

7. AFRAAH, Ahmed (a.k.a. AFRAAH, Hamed; a.k.a. AFRAAHU, Ahmed; a.k.a. AFRAAN, Ahmed; a.k.a. AFRAH, Ahmed), Rasgetheemu, Raa Atoll, Maldives; Male, Maldives; DOB 17 Aug 1985; POB Rasgetheemu, Raa Atoll, Maldives; nationality Maldives; Gender Male; Secondary sanctions risk: section 1(b) of Executive Order 13224, as amended by Executive Order 13886; Passport LA10E3813 (Maldives); National ID No. A147299 (Maldives); alt. National ID No. A052467 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

8. AHMED, Ameen, Male, Maldives; DOB 28 Apr 1987; POB Gaafu Dhaalu Atoll, Rathafandhoo, Maldives; nationality Maldives; Gender Male; Secondary sanctions risk: section 1(b) of Executive Order 13224, as amended by Executive Order 13886; Passport E0470542 (Maldives) expires 04 Dec 2018; National ID No. A147231 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

9. RAZZAQ, Mohamed Maathiu Abdul, Villimale, Maldives; Alihaa, Male, Maldives; DOB 08 Sep 1994; POB Maldives; nationality Maldives; Gender Male; Secondary sanctions risk: section 1(b) of Executive Order 13224, as amended by Executive Order 13886; National ID No. A222883 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

10. SHAFIU, Ali, Afghanistan; DOB 07 Sep 1988; POB Male, Maldives; nationality Maldives; Gender Male; Secondary sanctions risk: section 1(b) of Executive Order 13224, as amended by Executive Order 13886; Digital Currency Address—USDT TVacWx7F5wgMgn49L5frDf9KLgdYy8nPHL; Passport E0491095 (Maldives) expires 16 Jun 2019; National ID No. A325164 (Maldives) (individual) [SDGT] (Linked To: ISIL KHORASAN).

Designated pursuant to section 1(a)(iii)(C) of E.O. 13224, as amended, for having materially assisted, sponsored, or provided financial, material, or technological support for, or goods or services to or in support of, ISIL KHORASAN, a person whose property and interests in property are blocked pursuant to E.O. 13224.

11. SHAHEED, Yoosuf, Herethere, Lonuziyaaraiy Magu, Male, Maldives; DOB 12 Sep 1983; POB Male, Maldives; nationality Maldives; Gender Male; Secondary sanctions risk: section 1(b) of Executive Order 13224, as amended by Executive Order 13886; Passport E0466103 (Maldives) expires 10 Nov 2018; National ID No. A079207 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

12. SHAREEF, Abdulla (a.k.a. ABDULLA, Shareef), Felividhuvaruge, Thimarafushi, Maldives; DOB 11 Jun 1986; POB Thimarafushi, Maldives; nationality Maldives; Gender Male; Secondary sanctions risk: section 1(b) of Executive Order 13224, as amended by Executive Order 13886; National ID No. A141872 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

13. RAUF, Ahmed Alif (a.k.a. RAUF, Ahmed Aalif), Male, Maldives; DOB 21 Nov 1986; POB Male, Maldives; nationality Maldives; Gender Male; Secondary sanctions risk: section 1(b) of Executive Order 13224, as amended by Executive Order 13886; Passport E0513822 (Maldives) expires 08 Dec 2019; National ID No. A332352 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

14. RAUF, Mohamed Inthif, Maldives; Sri Lanka; DOB 09 Sep 1988; POB Male, Maldives; nationality Maldives; Gender Male; Secondary sanctions risk: section 1(b) of Executive Order 13224, as amended by Executive Order 13886; Passport E0457534 (Maldives) expires 21 Jul 2018; alt. Passport LA16E9883 (Maldives); National ID No. A336855 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

15. RAUF, Ibrahim Aleef, Male, Maldives; DOB 30 Nov 1989; POB Male, Maldives; nationality Maldives; Gender Male; Secondary sanctions risk: section 1(b) of Executive Order 13224, as amended by Executive Order 13886; Passport E0476424 (Maldives) expires 27 Jan 2019; National ID No. A121995 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

16. DIDI, Faris Mohamed, Addu City, Maldives; DOB 09 Dec 1984; POB Hithadhoo, Addu City, Maldives; nationality Maldives; Gender Male; Secondary sanctions risk: section 1(b) of Executive Order 13224, as amended by Executive Order 13886; Passport LA14E6390 (Maldives) expires 12 Jun 2022; National ID No. A153987 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

17. NASEEM, Jinaau (a.k.a. NASEEN, Jinau; a.k.a. NASYM, Hasen), Hithadhoo, Addu City, Maldives; Raaspareege, Male, Maldives; DOB 08 Aug 1994; POB Hithadhoo, Addu City, Maldives; nationality Maldives; Gender Male; Secondary sanctions risk: section 1(b) of Executive Order 13224, as amended by Executive Order 13886; Passport LA29E1351 (Maldives) expires 07 Jul 2027; alt. Passport LA15E1477 (Maldives); National ID No. A384648 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

18. NAUSHAD SHAREEF, Mohamed, Addu City, Maldives; DOB 16 Dec 1994; POB Hithadhoo, Addu City, Maldives; nationality Maldives; Gender Male; Secondary sanctions risk: section 1(b) of Executive Order 13224, as amended by Executive Order 13886; Passport E0496057 (Maldives) expires 25 Aug 2019; National ID No. A304105 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

19. NIHADH, Ali (a.k.a. NIHAD, Ali), Addu City, Maldives; DOB 10 Jun 1989; POB Hithadhoo, Addu City, Maldives; nationality Maldives; Gender Male; Secondary sanctions risk: section 1(b) of Executive Order 13224, as amended by Executive Order 13886; Passport LA14E6467 (Maldives); National ID No. A309494 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

20. THASLEEM, Mohamed, Hulhumale, Male 20041, Maldives; DOB 23 Oct 1987; nationality Maldives; Gender Male; Secondary sanctions risk: section 1(b) of Executive Order 13224, as amended by Executive Order 13886; National ID No. A121492 (Maldives) (individual) [SDGT] (Linked To: ISLAMIC STATE OF IRAQ AND THE LEVANT).

Designated pursuant to section 1(a)(iii)(C) of E.O. 13224, as amended, for having materially assisted, sponsored, or provided financial, material, or technological support for, or goods or services to or in support of, ISLAMIC STATE OF IRAQ AND THE LEVANT, a person whose property and interests in property are blocked pursuant to E.O. 13224.

Entities

1. DESIGNER GARAGE (a.k.a. FOTHI GARAGE), Gurahaage, Feydhoo 19040, Maldives; Link Road, Addu City 19040, Maldives; website fothigarage.business.site/; Secondary sanctions risk: section 1(b) of Executive Order 13224, as amended by Executive Order 13886; Organization Established Date 20 Nov 2017; Organization Type: Wholesale of food, beverages and tobacco; alt. Organization Type: Retail sale of textiles in specialized stores; Business Number BN03382018 (Maldives); alt. Business Number BN38732022 (Maldives); Business Registration Number BP38892022 (Maldives) issued 29 Sep 2022; Registration Number SP-2375/2017 (Maldives); Permit Number IG0195S42018 (Maldives) issued 06 Feb 2018 [SDGT] (Linked To: AGLEEL, Ahmed).

Designated pursuant to section 1(a)(iii)(A) of E.O. 13224, as amended, for being owned, controlled, or directed by, directly or indirectly, AHMED AGLEEL, a person whose property and interests in property are blocked pursuant to E.O. 13224, as amended.

2. ERIYADHU INVESTMENTS PVT LTD, Chaandhanee Magu, Machchangolhi, Male, Maldives; Secondary sanctions risk: section 1(b) of Executive Order 13224, as amended by Executive Order 13886; Registration Number C-0725/2009 (Maldives) [SDGT] (Linked To: SHIYAM, Ali).

Designated pursuant to section 1(a)(iii)(A) of E.O. 13224, as amended, for being owned, controlled, or directed by, directly or indirectly, ALI SHIYAM, a person whose property and interests in property are blocked pursuant to E.O. 13224, as amended.

3. FURAHA CONSTRUCTION PVT LTD, Garden Villa, Feydhoo 19040, Maldives; Secondary sanctions risk: section 1(b) of Executive Order 13224, as amended by Executive Order 13886; Organization Established Date 18 Mar 2015; Registration Number C-0282/2015 (Maldives) [SDGT] (Linked To: AGLEEL, Ahmed).

Designated pursuant to section 1(a)(iii)(A) of E.O. 13224, as amended, for being owned, controlled, or directed by, directly or indirectly, AHMED AGLEEL, a person whose property and interests in property are blocked pursuant to E.O. 13224, as amended.

4. GOLDEN WARRIORS INVESTMENT PVT LTD (a.k.a. “GW INVESTMENT”), Vaaly Villa, Majeedhee Magu, Henveiru, Male, Maldives; Secondary sanctions risk: section 1(b) of Executive Order 13224, as amended by Executive Order 13886; Organization Established Date 30 Dec 2014; Organization Type: Wholesale of solid, liquid and gaseous fuels and related products; Registration Number C-1063/2014 (Maldives); Permit Number IG-0069/T10/2015 (Maldives) issued 15 Jan 2015 [SDGT] (Linked To: SHIYAM, Ali).

Designated pursuant to section 1(a)(iii)(A) of E.O. 13224, as amended, for being owned, controlled, or directed by, directly or indirectly, ALI SHIYAM, a person whose property and interests in property are blocked pursuant to E.O. 13224, as amended.

5. JAZEERA PROPERTIES PVT LTD, Finuvaijeheyge, Samandhu Goalhi, Henveiru, Male, Maldives; Secondary sanctions risk: section 1(b) of Executive Order 13224, as amended by Executive Order 13886; Organization Established Date 19 Nov 2018; Registration Number C-0976/2018 (Maldives) [SDGT] (Linked To: SHIYAM, Ali).

Designated pursuant to section 1(a)(iii)(A) of E.O. 13224, as amended, for being owned, controlled, or directed by, directly or indirectly, ALI SHIYAM, a person whose property and interests in property are blocked pursuant to E.O. 13224, as amended.

6. SHINE. X INVESTMENTS PVT LTD, Malareethige, Galolhu, Male, Maldives; Secondary sanctions risk: section 1(b) of Executive Order 13224, as amended by Executive Order 13886; Registration Number C-0543/2014 (Maldives); Permit Number IG-0913/T10/2014 (Maldives) issued 03 Jul 2014 [SDGT] (Linked To: SHIYAM, Ali).

Designated pursuant to section 1(a)(iii)(A) of E.O. 13224, as amended, for being owned, controlled, or directed by, directly or indirectly, ALI SHIYAM, a person whose property and interests in property are blocked pursuant to E.O. 13224, as amended.

7. SOUTHERN STALLIONS PVT LTD, Gurahaage, Orchid Magu, Feydhoo 19040, Maldives; Secondary sanctions risk: section 1(b) of Executive Order 13224, as amended by Executive Order 13886; Organization Established Date 04 Mar 2020; Organization Type: Sports and recreation education; Business Number BN09492020 (Maldives); Registration Number C-0255/2020 (Maldives) [SDGT] (Linked To: AGLEEL, Ahmed).

Designated pursuant to section 1(a)(iii)(A) of E.O. 13224, as amended, for being owned, controlled, or directed by, directly or indirectly, AHMED AGLEEL, a person whose property and interests in property are blocked pursuant to E.O. 13224, as amended.

8. SYSKON PVT LTD, Chaandhanee Magu, Maafannu, Male 20189, Maldives; Secondary sanctions risk: section 1(b) of Executive Order 13224, as amended by Executive Order 13886; Organization Established Date 18 Sep 2017; Registration Number C-0901/2017 (Maldives) [SDGT] (Linked To: SHIYAM, Ali).

Designated pursuant to section 1(a)(iii)(A) of E.O. 13224, as amended, for being owned, controlled, or directed by, directly or indirectly, ALI SHIYAM, a person whose property and interests in property are blocked pursuant to E.O. 13224, as amended.

9. VAALY BROTHERS PVT LTD, Vaaly Villa, Majeedhee Magu, Henveiru, Male, Maldives; Secondary sanctions risk: section 1(b) of Executive Order 13224, as amended by Executive Order 13886; Organization Established Date 07 Aug 2007; Organization Type: Non-specialized wholesale trade; Registration Number C-0694/2007 (Maldives); Permit Number IG-0214/T10/2017 (Maldives) issued 16 Feb 2017; alt. Permit Number T10/F/92/0289 (Maldives) issued 01 Jan 1992 [SDGT] (Linked To: SHIYAM, Ali).

Designated pursuant to section 1(a)(iii)(A) of E.O. 13224, as amended, for being owned, controlled, or directed by, directly or indirectly, ALI SHIYAM, a person whose property and interests in property are blocked pursuant to E.O. 13224, as amended.

10. VISIONS MALDIVES PVT LTD, Ever Glory, Keneree Magu, Machchangolhi, Male, Maldives; Secondary sanctions risk: section 1(b) of Executive Order 13224, as amended by Executive Order 13886; Registration Number C-0132/1992 (Maldives) [SDGT] (Linked To: SHIYAM, Ali).

Designated pursuant to section 1(a)(iii)(A) of E.O. 13224, as amended, for being owned, controlled, or directed by, directly or indirectly, ALI SHIYAM, a person whose property and interests in property are blocked pursuant to E.O. 13224, as amended.

11. 3ZED INVESTMENT (a.k.a. “3ZED”; a.k.a. MIBAZAARUMV), Ma. Rimlas, Nikagas, Hingun, Male, Maldives; Secondary sanctions risk: section 1(b) of Executive Order 13224, as amended by Executive Order 13886; Organization Established Date 22 Mar 2022; Organization Type: Packaging activities; Business Number BN15322023 (Maldives); Registration Number SP-0816/2022 (Maldives) [SDGT] (Linked To: MUBEEN, Ahmed).

Designated pursuant to section 1(a)(iii)(A) of E.O. 13224, as amended, for being owned, controlled, or directed by, directly or indirectly, AHMED MUBEEN, a person whose property and interests in property are blocked pursuant to E.O. 13224, as amended.

12. AL ATHMAAR, Moonlight Valley, Male, Maldives; Secondary sanctions risk: section 1(b) of Executive Order 13224, as amended by Executive Order 13886; Organization Established Date 25 May 2017; Registration Number P-0057/2017 (Maldives) [SDGT] (Linked To: SHAMIL, Hussain; Linked To: SHAFIU, Ali).

Designated pursuant to section 1(a)(iii)(A) of E.O. 13224, as amended, for being owned, controlled, or directed by, directly or indirectly, HUSSAIN SHAMIL and ALI SHAFIU, persons whose property and interests in property are blocked pursuant to E.O. 13224, as amended.

13. LAROSA, Five Rose, Bahaarumagu 0808, Guraidhoo, Maldives; Secondary sanctions risk: section 1(b) of Executive Order 13224, as amended by Executive Order 13886; Organization Type: Non-specialized wholesale trade; Registration Number SP-0624/2018 (Maldives); Permit Number IG0724T102018 (Maldives) issued 22 May 2018 [SDGT] (Linked To: SHAMIL, Hussain).

Designated pursuant to section 1(a)(iii)(A) of E.O. 13224, as amended, for being owned, controlled, or directed by, directly or indirectly, HUSSAIN SHAMIL, a person whose property and interests in property are blocked pursuant to E.O. 13224, as amended.

14. CODE A PARTNERSHIP, Kulhidhoshu Magu, Male 20288, Maldives; Secondary sanctions risk: section 1(b) of Executive Order 13224, as amended by Executive Order 13886; Organization Established Date 31 Oct 2016; Registration Number P-0156/2016 (Maldives) [SDGT] (Linked To: AMEEN, Mohamad; Linked To: AFRAAH, Ahmed).

Designated pursuant to section 1(a)(iii)(A) of E.O. 13224, as amended, for being owned, controlled, or directed by, directly or indirectly, MOHAMAD AMEEN and AHMED AFRAAH, persons whose property and interests in property are blocked pursuant to E.O. 13224, as amended.

15. DHAWI PVT LTD, Herethere, Lonuziyaaraiy Magu, Male, Maldives; Secondary sanctions risk: section 1(b) of Executive Order 13224, as amended by Executive Order 13886; Organization Established Date 03 Oct 2018; Organization Type: Other transportation support activities; Registration Number C-0826/2018 (Maldives) [SDGT] (Linked To: AFRAAH, Ahmed; Linked To: SHAHEED, Yoosuf).

Designated pursuant to section 1(a)(iii)(A) of E.O. 13224, as amended, for being owned, controlled, or directed by, directly or indirectly, AHMED AFRAAH and YOOSUF SHAHEED, persons whose property and interests in property are blocked pursuant to E.O. 13224, as amended.

16. FRUIT PLUS MALDIVES PVT LTD (a.k.a. “FRUIT PLUS”), Double Eight, Buruzu Magu, Male, Maldives; Secondary sanctions risk: section 1(b) of Executive Order 13224, as amended by Executive Order 13886; Organization Established Date 30 Jan 2018; Organization Type: Wholesale of food, beverages and tobacco; Registration Number C-0115/2018 (Maldives); Permit Number IG0218T102018 (Maldives) issued 11 Feb 2018 [SDGT] (Linked To: AFRAAH, Ahmed).

Designated pursuant to section 1(a)(iii)(A) of E.O. 13224, as amended, for being owned, controlled, or directed by, directly or indirectly, AHMED AFRAAH, a person whose property and interests in property are blocked pursuant to E.O. 13224, as amended.

17. GREEN BIRDS, Alihaa, 7020, Naifaru, Maldives; Secondary sanctions risk: section 1(b) of Executive Order 13224, as amended by Executive Order 13886; Organization Established Date 19 Aug 2019; Registration Number SP-1741/2019 (Maldives); Permit Number IG1107T102019 (Maldives) issued 01 Sep 2019 [SDGT] (Linked To: RAZZAQ, Mohamed Maathiu Abdul).

Designated pursuant to section 1(a)(iii)(A) of E.O. 13224, as amended, for being owned, controlled, or directed by, directly or indirectly, MOHAMED MAATHIU ABDUL RAZZAQ, a person whose property and interests in property are blocked pursuant to E.O. 13224, as amended.

18. INMA MALDIVES (a.k.a. INMA MALDIVES COMPANY), Dhekunu Thila, 5th floor, Sabudheyli Magu, Male, Maldives; Noor Villa, Rahdhebai Hingun, Male, Maldives; website http://inma-maldives.business.site/; Secondary sanctions risk: section 1(b) of Executive Order 13224, as amended by Executive Order 13886; Organization Established Date 07 May 2018; Organization Type: Wholesale of food, beverages and tobacco; Business Registration Number BP17202021 (Maldives) issued 09 May 2021; Registration Number P-0095/2018 (Maldives); Permit Number IG0641T102018 (Maldives) issued 07 May 2018 [SDGT] (Linked To: AHMED, Ameen).

Designated pursuant to section 1(a)(iii)(A) of E.O. 13224, as amended, for being owned, controlled, or directed by, directly or indirectly, AMEEN AHMED, a person whose property and interests in property are blocked pursuant to E.O. 13224, as amended.

19. JAZEERAT ALMALDIFI (a.k.a. JAZEERATH AL MALDIFI; a.k.a. JAZEERATHALMALDIFI), Dhuveli, 1st Floor, Rahdhebai Magu, Male, Maldives; Secondary sanctions risk: section 1(b) of Executive Order 13224, as amended by Executive Order 13886; Organization Established Date 21 Feb 2019; Organization Type: Real estate activities on a fee or contract basis; Registration Number P-0025/2019 (Maldives) [SDGT] (Linked To: AHMED, Ameen).

Designated pursuant to section 1(a)(iii)(A) of E.O. 13224, as amended, for being owned, controlled, or directed by, directly or indirectly, AMEEN AHMED, a person whose property and interests in property are blocked pursuant to E.O. 13224, as amended.

20. MULTI CONSTRUCTION PVT LTD, Shimaz, Nellaidhoo, Maldives; Secondary sanctions risk: section 1(b) of Executive Order 13224, as amended by Executive Order 13886; Organization Established Date 09 Nov 2006; Registration Number C-0833/2006 (Maldives) [SDGT] (Linked To: SHAREEF, Abdulla).

Designated pursuant to section 1(a)(iii)(A) of E.O. 13224, as amended, for being owned, controlled, or directed by, directly or indirectly, ABDULLA SHAREEF, a person whose property and interests in property are blocked pursuant to E.O. 13224, as amended.

21. PANDA MALDIVES PVT LTD, Enboo, Enboo Goalhi, Maafannu, Male, Maldives; Secondary sanctions risk: section 1(b) of Executive Order 13224, as amended by Executive Order 13886; Organization Established Date 09 Nov 2016; Registration Number C-1089/2016 (Maldives) [SDGT] (Linked To: SHAFIU, Ali).

Designated pursuant to section 1(a)(iii)(A) of E.O. 13224, as amended, for being owned, controlled, or directed by, directly or indirectly, ALI SHAFIU, a person whose property and interests in property are blocked pursuant to E.O. 13224, as amended.

22. SIAS INVESTMENT PVT LTD (a.k.a. SIAS TRADING), Hulhumale, Lot 10799, Unigas Magu, Hulhumale 23000, Maldives; Secondary sanctions risk: section 1(b) of Executive Order 13224, as amended by Executive Order 13886; Organization Established Date 06 Jul 2021; Organization Type: Retail sale via mail order houses or via internet; Business Number BN26372021 (Maldives); Business Registration Number BP23702021 (Maldives) issued 12 Jul 2021; Registration Number C-0696/2021 (Maldives) [SDGT] (Linked To: AFRAAH, Ahmed).

Designated pursuant to section 1(a)(iii)(A) of E.O. 13224, as amended, for being owned, controlled, or directed by, directly or indirectly, AHMED AFRAAH, a person whose property and interests in property are blocked pursuant to E.O. 13224, as amended.

23. BAUM PVT LTD (a.k.a. “CAFE SHAZE”; a.k.a. “JAM ROLLED ICE CREAM”), Feyrugasdhoshuge, 1st Floor, Ameeru Ahmed Magu, Male, Maldives; Secondary sanctions risk: section 1(b) of Executive Order 13224, as amended by Executive Order 13886; Organization Established Date 28 Mar 2017; Organization Type: Non-specialized wholesale trade; Business Number BN-0734/2017 (Maldives); alt. Business Number BN-2097/2017 (Maldives); Registration Number C-0359/2017 (Maldives); Permit Number TS-0112/T10/2017 (Maldives); alt. Permit Number TS0040T102018 (Maldives); alt. Permit Number IG0593T102018 (Maldives) [SDGT] (Linked To: RAUF, Mohamed Inthif).

Designated pursuant to section 1(a)(iii)(A) of E.O. 13224, as amended, for being owned, controlled, or directed by, directly or indirectly, MOHAMED INTHIF RAUF, a person whose property and interests in property are blocked pursuant to E.O. 13224, as amended.

24. MAROC INTERNATIONAL PVT LTD, Coral Ville, Hulhumale 23000, Maldives; Secondary sanctions risk: section 1(b) of Executive Order 13224, as amended by Executive Order 13886; Organization Established Date 23 Sep 2021; Registration Number C-0977/2021 (Maldives) [SDGT] (Linked To: RAUF, Mohamed Inthif).

Designated pursuant to section 1(a)(iii)(A) of E.O. 13224, as amended, for being owned, controlled, or directed by, directly or indirectly, MOHAMED INTHIF RAUF, a person whose property and interests in property are blocked pursuant to E.O. 13224, as amended.

25. STREET INVESTMENTS PVT LTD (a.k.a. “BEACH COCOHUT”), Seesan magu, Male 20028, Maldives; Secondary sanctions risk: section 1(b) of Executive Order 13224, as amended by Executive Order 13886; Organization Established Date 12 Jun 2022; Organization Type: Restaurants and mobile food service activities; Business Number BN26312022 (Maldives); Business Registration Number BP33152022 (Maldives) issued 23 Aug 2022; Registration Number C-0688/2022 (Maldives) [SDGT] (Linked To: RAUF, Ahmed Alif).

Designated pursuant to section 1(a)(iii)(A) of E.O. 13224, as amended, for being owned, controlled, or directed by, directly or indirectly, AHMED ALIF RAUF, a person whose property and interests in property are blocked pursuant to E.O. 13224, as amended.

26. STREET MOTOR SERVICES (a.k.a. “AVIAN PARADISE”), Male, Maldives; website street-motor-services.business.site/; Secondary sanctions risk: section 1(b) of Executive Order 13224, as amended by Executive Order 13886; Organization Established Date 26 Oct 2014; Organization Type: Maintenance and repair of motor vehicles; Business Number BN19452021 (Maldives); Business Registration Number BP16972021 (Maldives) issued 06 May 2021; Registration Number SP-0539/2014 (Maldives) [SDGT] (Linked To: RAUF, Ahmed Alif).

Designated pursuant to section 1(a)(iii)(A) of E.O. 13224, as amended, for being owned, controlled, or directed by, directly or indirectly, AHMED ALIF RAUF, a person whose property and interests in property are blocked pursuant to E.O. 13224, as amended.

27. WHITE BEACH WATERSPORTS PVT LTD (a.k.a. WHITE BEACH WATERSPORTS), Male, Maldives; Beach Road, Hulhamale 23000, Maldives; Secondary sanctions risk: section 1(b) of Executive Order 13224, as amended by Executive Order 13886; Organization Established Date 09 Nov 2020; Organization Type: Other amusement and recreation activities; Registration Number C-0930/2020 (Maldives) [SDGT] (Linked To: RAUF, Ahmed Alif).

Designated pursuant to section 1(a)(iii)(A) of E.O. 13224, as amended, for being owned, controlled, or directed by, directly or indirectly, AHMED ALIF RAUF, a person whose property and interests in property are blocked pursuant to E.O. 13224, as amended.

28. NEW SUN INVESTMENTS PVT LTD (a.k.a. NEW SUN INVESTMENTS; a.k.a. NEW SUN INVESTMENTS PRIVATE LIMITED), Benhaage, Hithadhoo, Addu City 19020, Maldives; Secondary sanctions risk: section 1(b) of Executive Order 13224, as amended by Executive Order 13886; Organization Established Date 05 Mar 2015; Registration Number C-0250/2015 (Maldives) [SDGT] (Linked To: NAUSHAD SHAREEF, Mohamed).

Designated pursuant to section 1(a)(iii)(A) of E.O. 13224, as amended, for being owned, controlled, or directed by, directly or indirectly, MOHAMED NAUSHAD SHAREEF, a person whose property and interests in property are blocked pursuant to E.O. 13224, as amended.

29. SKY NOVA INVESTMENT (a.k.a. “TAS-TY ADDU”), Vanilla ge, Hithadhoo, Addu City 19020, Maldives; Secondary sanctions risk: section 1(b) of Executive Order 13224, as amended by Executive Order 13886; Organization Established Date 26 Oct 2022; Business Number BN44802022 (Maldives); Registration Number SP-2913/2022 (Maldives) [SDGT] (Linked To: NAUSHAD SHAREEF, Mohamed).

Designated pursuant to section 1(a)(iii)(A) of E.O. 13224, as amended, for being owned, controlled, or directed by, directly or indirectly, MOHAMED NAUSHAD SHAREEF, a person whose property and interests in property are blocked pursuant to E.O. 13224, as amended.

On July 31, 2023, OFAC published the following revised information for the entries on the SDN List for the following individual whose property and interests in property are blocked pursuant to Executive Order 13224 of September 23, 2001, “Blocking Property and Prohibiting Transactions With Persons Who Commit, Threaten To Commit, or Support Terrorism,” as amended by Executive Order 13886 of September 9, 2019, “Modernizing Sanctions to Combat Terrorism.”

Individual

AL-KHATIB, Ahmad (a.k.a. AL KHATIB, Ahmad; a.k.a. EL KHATIB, Ahmad; a.k.a. HISHMAH, Ahmad), Sao Paulo, Brazil; DOB 03 Jul 1969; alt. DOB 03 Jul 1967; POB Majdal Anjar, Lebanon; nationality Egypt; alt. nationality Lebanon; Gender Male; Secondary sanctions risk: section 1(b) of Executive Order 13224, as amended by Executive Order 13886; Passport RL0554365 (Lebanon) issued 20 Mar 2011 expires 29 Mar 2016; Tax ID No. 234.904.268-51 (Brazil) (individual) [SDGT].

Dated: July 31, 2023.
Andrea M. Gacki,
Director, Office of Foreign Assets Control, U.S. Department of the Treasury.

[FR Doc. 2023-16612 Filed 8-3-23; 8:45 am]

BILLING CODE 4810-AL-P